FEDERAL COMMUNICATIONS COMMISSION

47 CFR Part 73

[DA 07-2388; MB Docket No. 05-102; RM-10630]

Radio Broadcasting Services; Akron and Denver, CO

AGENCY: Federal Communications Commission.

ACTION: Final rule.

SUMMARY: This document grants a petition for rulemaking filed by Akron Broadcasting Company (“Petitioner”), seeking to amend the FM Table of Allotments by allotting Channel 279C1 at Akron, Colorado, as the community's first local aural transmission service. Channel 279C1 is allotted at Akron, Colorado, at Petitioner's requested site 24.5 kilometers (15.2 miles) southeast of the community at coordinates 40-03-28 NL and 102-57-35 WL.

DATES: Effective July 23, 2007.

ADDRESSES: Secretary, Federal Communications Commission, 445 Twelfth Street, SW., Washington, DC 20554.

FOR FURTHER INFORMATION CONTACT: Victoria McCauley, Media Bureau, (202) 418-2180.

SUPPLEMENTARY INFORMATION: This is a synopsis of the Commission's Report and Order, MB Docket No. 05-102, adopted June 6, 2007, and released June 8, 2007. The full text of this Commission decision is available for inspection and copying during normal business hours in the FCC's Reference Information Center at Portals II, CY-A257, 445 Twelfth Street, SW., Washington, DC 20554. This document may also be purchased from the Commission's duplicating contractors, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A). Provisions of the Regulatory Flexibility Act of l980 do not apply to this proceeding.

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Colorado is amended by adding Akron, Channel 279C1.

Federal Communications Commission.
John A. Karousos,
Assistant Chief, Audio Division, Media Bureau.

[FR Doc. E7-12650 Filed 7-3-07; 8:45 am]

BILLING CODE 6712-01-P